FEDERAL MARITIME COMMISSION

Meetings; Sunshine Act

Agency Holding the Meeting: Federal Maritime Commission.

Time and Date: September 11, 10 a.m.

Place: 800 North Capitol Street, NW., First Floor Hearing Room, Washington, DC.

Status: A portion of the meeting will be in Open Session and the remainder of the meeting will be in Closed Session.

Matters To Be Considered:

Open Session

(1) FMC Agreement No. 201192, South Florida Container Terminal Cooperative Working Agreement.

(2) Docket No. 02-04, Anchor Shipping Co. v. Alianca—Request for Extension of Time for Initial and Final Decision.

(3) Constitution Day and Citizenship Day, 2008.

Closed Session

(1) FMC Agreement No. 201170-001, LA Long Beach Port Infrastructure & Environmental Cooperative Working Agreement.

(2) LA/Long Beach Ports/Terminals Agreements.

(3) Export Cargo Issues Status Report.

(4) Internal Administrative Practices and Personnel Matters.

Contact Person for More Information: Karen V. Gregory, Assistant Secretary, (202) 523-5725.

Karen V. Gregory
Assistant Secretary.

[FR Doc. E8-20899 Filed 9-4-08; 4:15 pm]

BILLING CODE 6730-01-P